DEPARTMENT OF TRANSPORTATION

Federal Aviation Administration

14 CFR Part 39

[Docket No. FAA-2005-22792; Directorate Identifier 2005-NM-084-AD; Amendment 39-14447; AD 2006-01-08]

RIN 2120-AA64

Airworthiness Directives; BAE Systems (Operations) Limited Model Avro 146-RJ Airplanes

AGENCY: Federal Aviation Administration (FAA), Department of Transportation (DOT).

ACTION: Final rule.

SUMMARY: The FAA is adopting a new airworthiness directive (AD) for all BAE Systems (Operations) Limited Model Avro 146-RJ airplanes. This AD requires reviewing the airplane's maintenance records to determine if certain tasks of the BAE Systems (Operations) Limited BAe146/Avro RJ Maintenance Planning Document issued May 15, 2004, have been accomplished. This AD also requires doing repetitive detailed inspections of the external fuselage skin adjacent to the longeron at rib 0 from frame 29 to frame 31, and repairing any damage. This AD results from issuance of mandatory continuing airworthiness information by a foreign civil airworthiness authority. We are issuing this AD to detect and correct cracking of the fuselage skin, which could result in structural failure of the fuselage.

DATES: This AD becomes effective February 16, 2006.

The Director of the Federal Register approved the incorporation by reference of a certain publication listed in the AD as of February 16, 2006.

ADDRESSES: You may examine the AD docket on the Internet at http://dms.dot.gov or in person at the Docket Management Facility, U.S. Department of Transportation, 400 Seventh Street, SW., Nassif Building, Room PL-401, Washington, DC.

Contact British Aerospace Regional Aircraft American Support, 13850 Mclearen Road, Herndon, Virginia 20171, for service information identified in this AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all BAE Systems (Operations) Limited Model Avro 146-RJ airplanes. That NPRM was published in the Federal Register on October 27, 2005 (70 FR 61918). That NPRM proposed to require reviewing the airplane's maintenance records to determine if certain tasks of the BAE Systems (Operations) Limited BAe146/Avro RJ Maintenance Planning Document issued May 15, 2004, have been accomplished. That NPRM also proposed to require doing repetitive detailed inspections of the external fuselage skin adjacent to the longeron at rib 0 from frame 29 to frame 31, and repairing any damage.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.- registered airplanes | Fleet cost
Records Examination | 1 | $65 | None | $65 | 36 | $2,340.
Repetitive Detailed Inspection | 4 | 65 | None | 260 | 36 | $9,360, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-01-08 BAE Systems (Operations) Limited (Formerly British Aerospace Regional Aircraft): Amendment 39-14447. Docket No. FAA-2005-22792; Directorate Identifier 2005-NM-084-AD.

Effective Date

(a) This AD becomes effective February 16, 2006.

Affected ADs

(b) None.

Applicability

(c) This AD applies to all BAE Systems (Operations) Limited Model Avro 146-RJ70A, 146-RJ85A, and 146-RJ100A airplanes, certificated in any category.

Unsafe Condition

(d) This AD results from issuance of mandatory continuing airworthiness information by a foreign civil airworthiness authority. We are issuing this AD to detect and correct cracking of the fuselage skin, which could result in structural failure of the fuselage.

Compliance

(e) You are responsible for having the actions required by this AD performed within the compliance times specified, unless the actions have already been done.

Maintenance Records Review

(f) Within 30 days after the effective date of this AD, review the airplane's maintenance records to determine if Tasks 532038-DVI-10000-1 and -2 of the BAE Systems (Operations) Limited BAe146/Avro RJ Maintenance Planning Document issued May 15, 2004, have been accomplished before the effective date of this AD. If review of the airplane's maintenance records cannot conclusively determine that Tasks 532038-DVI-10000-1 and -2 have been accomplished, do the detailed inspection specified in paragraph (g) of this AD at the applicable compliance time specified in paragraph (g)(1) or (g)(2) of this AD. If review of the airplane's maintenance records can conclusively determine that Tasks 532038-DVI-10000-1 and -2 have been accomplished, do the detailed inspection specified in paragraph (g) of this AD at the compliance time specified in paragraph (g)(3) of this AD.

Detailed Inspection and Corrective Action

(g) At the applicable compliance time specified in paragraph (g)(1), (g)(2), or (g)(3) of this AD, do a detailed inspection of the external fuselage skin adjacent to the longeron at rib 0 from frame 29 to frame 31, in accordance with the Accomplishment Instructions of BAE Systems (Operations) Limited Inspection Service Bulletin ISB.53-177, dated June 29, 2004. If any damage is found during any inspection required by this AD, before further flight, repair in accordance with the service bulletin; except where the service bulletin specifies to repair with an approved BAE Systems (Operations) Limited repair scheme, before further flight, repair the damage according to a method approved by either the Manager, International Branch, ANM-116, Transport Airplane Directorate, FAA; or the Civil Aviation Authority (or its delegated agent).

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 2: BAE Systems (Operations) Limited Inspection Service Bulletin ISB.53-177, dated June 29, 2004, refers to Supplemental Structural Inspection 53-20-138 of the BAE Systems (Operations) Limited BAe 146/Avro 146-RJ Maintenance Review Board Report, Revision 10, dated May 2004, as an additional source of service information for inspecting the external fuselage skin. The service bulletin also refers to the BAE Systems (Operations) Limited structural repair manual (SRM) as an additional source of service information for repairing certain damage.

(1) For airplanes on which Tasks 532038-DVI-10000-1 and -2 of the BAE Systems (Operations) Limited BAe146/Avro RJ Maintenance Planning Document issued May 15, 2004, have not been accomplished but that have accumulated 22,000 total flight cycles or less as of the effective date of this AD: Inspect before accumulating 22,000 total flight cycles or within 6 months after the effective date of this AD, whichever is later. Thereafter repeat the detailed inspection at intervals not to exceed 12,000 flight cycles.

(2) For airplanes on which Tasks 532038-DVI-10000-1 and -2 of the BAE Systems (Operations) Limited BAe146/Avro RJ Maintenance Planning Document issued May 15, 2004, have not been accomplished but that have accumulated more than 22,000 total flight cycles as of the effective date of this AD: Inspect before accumulating 24,000 total flight cycles or within 6 months after the effective date of this AD, whichever is first. Thereafter repeat the detailed inspection at intervals not to exceed 12,000 flight cycles.

(3) For airplanes on which Tasks 532038-DVI-10000-1 and -2 of the BAE Systems (Operations) Limited BAe146/Avro RJ Maintenance Planning Document issued May 15, 2004, have been accomplished before the effective date of this AD: Inspect within 12,000 flight cycles after the most recent inspection. Thereafter repeat the detailed inspection at intervals not to exceed 12,000 flight cycles.

No Reporting Requirement

(h) Although the service bulletin referenced in this AD specifies to submit certain information to the manufacturer, this AD does not include that requirement.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) British airworthiness directive G-2005-0009, dated March 9, 2005, also addresses the subject of this AD.

Material Incorporated by Reference

(k) You must use BAE Systems (Operations) Limited Inspection Service Bulletin ISB.53-177, dated June 29, 2004, to perform the actions that are required by this AD, unless the AD specifies otherwise. The Director of the Federal Register approved the incorporation by reference of this document in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_ of _federal_regulations/ibr_locations.html.

Issued in Renton, Washington, on December 30, 2005.
Linda Navarro,
Acting Manager, Transport Airplane Directorate, Aircraft Certification Service.

[FR Doc. 06-181 Filed 1-11-06; 8:45 am]

BILLING CODE 4910-13-P